DEPARTMENT OF DEFENSE

Office of the Secretary

[Docket ID: DOD-2010-OS-0123]

Privacy Act of 1974; System of Records

AGENCY: Department of Defense.

ACTION: Notice to alter a system of records.

SUMMARY: The Office of the Secretary of Defense proposes to alter a system of records in its inventory of record systems subject to the Privacy Act of 1974 (5 U.S.C. 552a), as amended.

DATES: This proposed action would be effective without further notice on October 21, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington DC 20301-1155.

The proposed system report, as required by 5 U.S.C. 552a(r) of the Privacy Act of 1974, as amended, was submitted on September 8, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 15, 2010.
Mitchell S. Bryman,
Alternate OSD Federal Register Liaison Officer, Department of Defense.

DNDU 01

System name:

National Defense University (NDU) Student Data Files (October 1, 2008; 73 FR 57080).

Changes:

* * * * *

System location:

Delete entry and replace with “National Defense University, 300 5th Avenue, Building 62, Fort Leslie J. McNair, Washington, DC 20319-5000.”

Categories of individuals covered by the system:

Delete entry and replace with “Active Military, Reserve, National Guard, DoD and other Federal and State civilians, international military and civilian fellow, contractor, and private industry students attached to the National Defense University. Resident/non-resident students enrolled in courses of instruction at The National Defense University (NDU), including the College of International Security Affairs, Industrial College of the Armed Forces, Information Resources Management College, Joint Forces Staff College, National War College, Center for Applied Strategic Learning, Center for the Study of Chinese Military Affairs, Center for the Study of Weapons of Mass Destruction, Center for Technology and National Security Policy, Institute for National Strategic Studies, CAPSTONE, Institute for National Security Ethics and Leadership, International Student Management Office, Joint Reserve Affairs Center, NATO Education Center, Secretary of Defense Corporate Fellows Program, and Strategic Policy Forum.”

Categories of records in the system:

Delete entry and replace with “Name, address, date of birth, citizenship, race, Social Security Number (SSN), phone numbers, e-mail addresses, disability information, student identification number, grade/rank, branch of service or civilian agency, years of Federal service, school attended and years of attendance, security clearance granted and date, biographical data, course/section assignment, prior education, and academic data.”

Authority for maintenance of the system:

Delete entry and replace with “10 U.S.C. 2165, National Defense University; 10 U.S.C. 2163, Degree Granting Authority for National Defense University and E.O. 9397, as amended (SSN).”

Purpose(s):

Delete entry and replace with “To confirm attendance eligibility, monitor student progress, produce record of grades and achievements, prepare assignment rosters and to render management, statistical summaries and reports at the National Defense University.”

* * * * *

Retrievability:

Delete entry and replace with “By name, Social Security Number (SSN), or student identification number.”

Safeguards:

Delete entry and replace with “Records are housed in a controlled entry building with 24/7 security guards and accessed only by authorized personnel having an official need-to-know. Access Rights List is the Computer Network Defense Service Provider with 24/7 monitoring of all incoming and outgoing traffic. An Intrusion Detection System, firewalls, routers, and Access Control Lists are used to protect access to the system. Virtual Private Network and Secure Socket Layers are used for transactions to and from the system. Internally, National Defense University employs a two-factor authentication, Common Access Card login, role-based profiles and access is granted on a need-to-know basis. Access to user and division folders is granted on a need-to-know basis. Data at rest is protected through access controls including role-based permissions based on need-to-know. Annual Information Awareness Training including Personal Identifiable Information is required by all users. Completion of Privacy Act training is required annually.”

* * * * *

System manager(s) and address:

Delete entry and replace with “President, National Defense University, 300 5th Avenue, Building 62, Fort Leslie J. McNair, Washington, DC 20319-5000.”

Notification procedure:

Delete entry and replace with “Individuals seeking to determine whether information about themselves is contained in this system of records should address written inquiries to the President, National Defense University, 300 5th Avenue, Building 62, Fort Leslie J. McNair, Washington, DC 20319-5000.

Individuals should provide his/her full name, Social Security number (SSN), student identification number, date of birth, school attended, and years of attendance.”

Record access procedures:

Delete entry and replace with “Individuals seeking access to information about themselves contained in this system of records should address written inquiries to the Office of the Secretary of Defense/Joint Staff Freedom of Information Act Requester Service Center, 1155 Defense Pentagon, Washington, DC 20301-1155.

Individuals should provide his/her full name, Social Security number (SSN), student identification number, date of birth, school attended, and years of attendance.”

* * * * *

Record source categories:

Delete entry and replace with “Individuals, faculty evaluations and reports or transcripts from educational institutions.”

* * * * *

DNDU 01

System name:

National Defense University (NDU) Student Data Files

System location:

National Defense University, 300 5th Avenue, Building 62, Fort Leslie J. McNair, Washington, DC 20319-5000.

Categories of individuals covered by the system:

Active Military, Reserve, National Guard, DoD and other Federal and State civilians, international military and civilian fellow, contractor, and private industry students attached to the National Defense University. Resident/non-resident students enrolled in courses of instruction at The National Defense University (NDU), including the College of International Security Affairs, Industrial College of the Armed Forces, Information Resources Management College, Joint Forces Staff College, National War College, Center for Applied Strategic Learning, Center for the Study of Chinese Military Affairs, Center for the Study of Weapons of Mass Destruction, Center for Technology and National Security Policy, Institute for National Strategic Studies, CAPSTONE, Institute for National Security Ethics and Leadership, International Student Management Office, Joint Reserve Affairs Center, NATO Education Center, Secretary of Defense Corporate Fellows Program, and Strategic Policy Forum.

Categories of records in the system:

Name, address, date of birth, citizenship, race, Social Security Number (SSN), phone numbers, e-mail addresses, disability information, student identification number, grade/rank, branch of service or civilian agency, years of Federal service, school attended and years of attendance, security clearance granted and date, biographical data, course/section assignment, prior education, and academic data.

Authority for maintenance of the system:

10 U.S.C. 2165, National Defense University; 10 U.S.C. 2163, Degree Granting Authority for National Defense University and E.O. 9397, as amended (SSN).

Purpose(s):

To confirm attendance eligibility, monitor student progress, produce record of grades and achievements, prepare assignment rosters and to render management, statistical summaries and reports at the National Defense University.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of OSD's compilation of systems of records notices also apply to this system.

Policies and practices for storing, retrieving, accessing, retaining, and disposing of records in the system:

Storage:

Paper records in file folders and electronic storage media.

Retrievability:

By name, Social Security Number (SSN), or student identification number.

Safeguards:

Records are housed in a controlled entry building with 24/7 security guards and accessed only by authorized personnel having an official need-to-know. Access Rights List is the Computer Network Defense Service Provider with 24/7 monitoring of all incoming and outgoing traffic. An Intrusion Detection System, firewalls, routers, and Access Control Lists are used to protect access to the system. Virtual Private Network and Secure Socket Layers are used for transactions to and from the system. Internally, National Defense University employs a two-factor authentication, Common Access Card login, role-based profiles and access is granted on a need-to-know basis. Access to user and division folders is granted on a need-to-know basis. Data at rest is protected through access controls including role-based permissions based on need-to-know. Annual Information Awareness Training including Personal Identifiable Information is required by all users. Completion of Privacy Act training is required annually.

Retention and disposal:

Individual and class academic records are destroyed after 40 years. Records pertaining to extension courses are held indefinitely before being retired to the National Personnel Records Center, St. Louis, MO. Individual training records are destroyed annually; management reports are destroyed when no longer needed.

System manager(s) and address:

President, National Defense University, 300 5th Avenue, Building 62, Fort Leslie J. McNair, Washington, DC 20319-5000.

Notification procedure:

Individuals seeking to determine whether information about themselves is contained in this system of records should address written inquiries to the President, National Defense University, 300 5th Avenue, Building 62, Fort Leslie J. McNair, Washington, DC 20319-5000.

Individuals should provide his/her full name, Social Security number (SSN), student identification number, date of birth, school attended and years of attendance.

Record access procedures:

Individuals seeking access to information about themselves contained in this system of records should address written inquiries to the Office of the Secretary of Defense/Joint Staff Freedom of Information Act Requester Service Center, 1155 Defense Pentagon, Washington, DC 20301-1155.

Individuals should provide his/her full name, Social Security number (SSN), student identification number, date of birth, school attended and years of attendance.

Contesting record procedures:

The Office of the Secretary of Defense rules for accessing records, and for contesting contents and appealing initial agency determinations are contained in Administrative Instruction 81; 32 CFR part 311; or may be obtained from the system manager.

Record source categories:

Individuals, faculty evaluations and reports or transcripts from educational institutions.

Exemptions claimed for the system:

None.

[FR Doc. 2010-23458 Filed 9-20-10; 8:45 am]

BILLING CODE 5001-06-P